DEPARTMENT OF HOMELAND SECURITY

Coast Guard

33 CFR Parts 100, 117, 147, and 165

[USCG-2015-0856]

2015 Quarterly Listings; Safety Zones, Security Zones, Special Local Regulations, Drawbridge Operation Regulations and Regulated Navigation Areas

AGENCY: Coast Guard, DHS.

ACTION: Notification of expired temporary rules issued.

SUMMARY: This document provides notification of substantive rules issued by the Coast Guard that were temporarily effective primarily between March 2015 and June 2015 but expired before they could be published in the Federal Register. This document lists temporary safety zones, security zones, special local regulations, drawbridge operation regulations and regulated navigation areas, all of limited duration and for which timely publication in the Federal Register was not possible.

DATES: This document lists temporary Coast Guard rules that became effective primarily between March 2015 and June 2015, unless otherwise indicated, and were terminated before they could be published in the Federal Register.

ADDRESSES: Temporary rules listed in this document may be viewed online, under their respective docket numbers, using the Federal eRulemaking Portal at https://www.regulations.gov.

FOR FURTHER INFORMATION CONTACT: For questions on this document contact Deborah Thomas, Office of Regulations and Administrative Law, telephone (202) 372-3864.

SUPPLEMENTARY INFORMATION: Coast Guard District Commanders and Captains of the Port (COTP) must be immediately responsive to the safety and security needs within their jurisdiction; therefore, District Commanders and COTPs have been delegated the authority to issue certain local regulations. Safety zones may be established for safety or environmental purposes. A safety zone may be stationary and described by fixed limits or it may be described as a zone around a vessel in motion. Security zones limit access to prevent injury or damage to vessels, ports, or waterfront facilities. Special local regulations are issued to enhance the safety of participants and spectators at regattas and other marine events. Drawbridge operation regulations authorize changes to drawbridge schedules to accommodate bridge repairs, seasonal vessel traffic, and local public events. Regulated Navigation Areas are water areas within a defined boundary for which regulations for vessels navigating within the area have been established by the regional Coast Guard District Commander.

Timely publication of these rules in the Federal Register may be precluded when a rule responds to an emergency, or when an event occurs without sufficient advance notice. The affected public is, however, often informed of these rules through Local Notices to Mariners, press releases, and other means. Moreover, actual notification is provided by Coast Guard patrol vessels enforcing the restrictions imposed by the rule. Because Federal Register publication was not possible before the end of the effective period, mariners were personally notified of the contents of these safety zones, security zones, special local regulations, regulated navigation areas or drawbridge operation regulations by Coast Guard officials on-scene prior to any enforcement action. However, the Coast Guard, by law, must publish in the Federal Register notice of substantive rules adopted. To meet this obligation without imposing undue expense on the public, the Coast Guard periodically publishes a list of these temporary safety zones, security zones, special local regulations, regulated navigation areas and drawbridge operation regulations. Permanent rules are not included in this list because they are published in their entirety in the Federal Register. Temporary rules are also published in their entirety if sufficient time is available to do so before they are placed in effect or terminated.

The following unpublished rules were placed in effect temporarily during the period between March 2015 and June 2015 unless otherwise indicated. To view copies of these rules, visit https://www.regulations.gov and search by the docket number indicated in the list below.

Docket No. | Location | Type | Effective date
USCG-2012-0686 | Guam | Safety Zones (Parts 147 and 165) | 7/23/2012
USCG-2012-0868 | Adjacent Waters, Guam | Safety Zones (Parts 147 and 165) | 9/15/2012
USCG-2012-0926 | Guam | Safety Zones (Parts 147 and 165) | 10/24/2012
USCG-2012-0943 | Guam | Safety Zones (Parts 147 and 165) | 11/7/2012
USCG-2012-1046 | Guam | Safety Zones (Parts 147 and 165) | 1/9/2013
USCG-2013-0255 | Adjacent Waters, Guam | Safety Zones (Parts 147 and 165) | 5/1/2013
USCG-2013-0303 | Guam | Safety Zones (Parts 147 and 165) | 5/15/2013
USCG-2013-0422 | Adjacent Waters, Guam | Safety Zones (Parts 147 and 165) | 6/19/2013
USCG-2013-0524 | Guam | Safety Zones (Parts 147 and 165) | 7/2/2013
USCG-2013-0744 | Chattanooga, TN | Special Local Regulations (Part 100) | 10/12/2013
USCG-2013-0912 | Guam | Safety Zones (Parts 147 and 165) | 11/5/2013
USCG-2013-0946 | New Orleans, LA | Security Zones (Part 165) | 11/8/2013
USCG-2013-1029 | Upper Mississippi River | Safety Zones (Parts 147 and 165) | 11/25/2013
USCG-2014-0182 | Lower Mississippi River | Safety Zones (Parts 147 and 165) | 3/14/2014
USCG-2014-0202 | West Virginia | Special Local Regulations (Part 100) | 4/5/2014
USCG-2014-0284 | Harahan Railroad Bridge | Safety Zones (Parts 147 and 165) | 4/14/2014
USCG-2014-0185 | Louisville, KY | Safety Zones (Parts 147 and 165) | 4/30/2014
USCG-2014-0120 | Knoxville, TN | Special Local Regulations (Part 100) | 5/18/2014
USCG-2014-0581 | Lower Mississippi River | Safety Zones (Parts 147 and 165) | 8/4/2014
USCG-2014-0694 | Lower Mississippi River | Safety Zones (Parts 147 and 165) | 8/7/2014
USCG-2014-0612 | Cincinnati, OH | Safety Zones (Parts 147 and 165) | 8/19/2014
USCG-2014-0738 | Lower Mississippi River | Safety Zones (Parts 147 and 165) | 8/25/2014
USCG-2014-0709 | Marietta, OH | Safety Zones (Parts 147 and 165) | 9/6/2014
USCG-2014-0816 | Brownsville, TX | Safety Zones (Parts 147 and 165) | 9/12/2014
USCG-2014-0646 | Pier Wisconsin | Safety Zones (Parts 147 and 165) | 9/13/2014
USCG-2014-0825 | Lower Mississippi River | Safety Zones (Parts 147 and 165) | 10/12/2014
USCG-2014-0942 | Philadelphia, PA | Security Zones (Part 165) | 10/16/2014
USCG-2013-0204 | Kauai, Hawaii | Safety Zones (Parts 147 and 165) | 11/2/2014
USCG-2014-0936 | Agat bay, Guam | Safety Zones (Parts 147 and 165) | 11/4/2014
USCG-2014-1005 | Sabine, TX | Safety Zones (Parts 147 and 165) | 11/18/2014
USCG-2014-1015 | Sabine, TX | Safety Zones (Parts 147 and 165) | 11/21/2014
USCG-2015-0057 | Mt. Carbon, WV | Safety Zones (Parts 147 and 165) | 2/16/2015
USCG-2015-0111 | Delaware River, Baker Range | Safety Zones (Parts 147 and 165) | 2/19/2015
USCG-2015-0162 | Pittsburgh, PA | Safety Zones (Parts 147 and 165) | 3/6/2015
USCG-2015-0177 | Houston, TX | Safety Zones (Parts 147 and 165) | 3/9/2015
USCG-2014-0878 | Thebes, IL | Safety Zones (Parts 147 and 165) | 3/9/2015
USCG-2015-0114 | Salem, NJ | Safety Zones (Parts 147 and 165) | 3/13/2015
USCG-2015-0176 | Poca, WV | Safety Zones (Parts 147 and 165) | 3/13/2015
USCG-2015-0097 | Palmyra, NJ | Safety Zones (Parts 147 and 165) | 3/24/2015
USCG-2015-0183 | Petaluma, CA | Safety Zones (Parts 147 and 165) | 3/25/2015
USCG-2015-0184 | Baltimore and Anne Arundel Counties, MD | Safety Zones (Parts 147 and 165) | 3/24/15-3/25/2015
USCG-2015-0229 | Palmyra, NJ | Safety Zones (Parts 147 and 165) | 3/26/2015
USCG-2015-0165 | Petersburg, FL | Safety Zones (Parts 147 and 165) | 3/28/2015
USCG-2015-0217 | Naples, FL | Safety Zones (Parts 147 and 165) | 4/1/2015
USCG-2015-0250 | Marco Island, FL | Security Zones (Part 165) | 4/3/2015
USCG-2015-0194 | Tampa & St. Pertersburg, FL | Safety Zones (Parts 147 and 165) | 4/3/2015
USCG-2015-0260 | Cleveland, OH | Safety Zones (Parts 147 and 165) | 4/6/2015
USCG-2015-0257 | Marina Del Rey, CA | Safety Zones (Parts 147 and 165) | 4/10/2015
USCG-2015-0211 | Pacifica, CA | Safety Zones (Parts 147 and 165) | 4/11/2015
USCG-2015-0093 | Sarasota, FL | Safety Zones (Parts 147 and 165) | 4/12/2015
USCG-2015-0207 | Philadelphia, PA | Safety Zones (Parts 147 and 165) | 4/1/2015-4/13/2015
USCG-2015-0297 | Lemont, IL | Safety Zones (Parts 147 and 165) | 4/13/2015
USCG-2015-0290 | Oak Island, NC | Safety Zones (Parts 147 and 165) | 4/16/2015
USCG-2015-0220 | San Francisco, CA | Safety Zones (Parts 147 and 165) | 4/17/2015
USCG-2015-0141 | Louisville, KY | Safety Zones (Parts 147 and 165) | 4/17/2015
USCG-2015-0195 | Henderson, KY | Safety Zones (Parts 147 and 165) | 4/17/2015
USCG-2015-0225 | Oak Island, NC | Safety Zones (Parts 147 and 165) | 4/19/2015
USCG-2015-0277 | Chicago, IL | Safety Zones (Parts 147 and 165) | 4/19/2015
USCG-2015-0334 | Oahu, Hawaii | Safety Zones (Parts 147 and 165) | 4/23/2015
USCG-2015-0269 | Beaver, PA | Safety Zones (Parts 147 and 165) | 4/24/2015
USCG-2014-1079 | Daytona Beach, FL | Safety Zones (Parts 147 and 165) | 4/25/2015
USCG-2015-0379 | Sacramento, CA | Drawbridges (Part 117) | 4/26/2015
USCG-2015-0294 | Sacramento, CA | Drawbridges (Part 117) | 4/26/2015
USCG-2015-0321 | San Francisco, CA | Special Local Regulations (Part 100) | 4/26/2015
USCG-2015-0326 | Tiburon, CA | Special Local Regulations (Part 100) | 4/26/2015
USCG-2015-0200 | Palm City, FL | Security Zones (Part 165) | 4/28/2015
USCG-2015-0350 | Lower St. Mary's River, Michigan | Safety Zones (Parts 147 and 165) | 4/30/2015
USCG-2015-0311 | Wyandotte, MI | Special Local Regulations (Part 100) | 5/2/2015
USCG-2015-0356 | Tampa, FL | Safety Zones (Parts 147 and 165) | 5/2/2015
USCG-2015-0316 | Clearwater, FL | Safety Zones (Parts 147 and 165) | 5/3/2015
USCG-2015-0370 | Detriot, MI | Security Zones (Part 165) | 5/3/2015
USCG-2015-0344 | Hampton Roads, VA | Security Zones (Part 165) | 5/4/2015
USCG-2015-0179 | Fort Lauderdale, FL | Security Zones (Part 165) | 5/4/2015
USCG-2015-0404 | Marin County, CA | Safety Zones (Parts 147 and 165) | 5/7/2015
USCG-2015-0394 | Portland, OR | Security Zones (Part 165) | 5/7/2015
USCG-2013-0205 | Garapan, Saipan | Safety Zones (Parts 147 and 165) | 5/8/2015
USCG-2015-0408 | Grand Island, CA | Drawbridges (Part 117) | 5/10/2015
USCG-2015-0409 | Sacramento, CA | Drawbridges (Part 117) | 5/10/2015
USCG-2015-0410 | Isleton, CA | Drawbridges (Part 117) | 5/10/2015
USCG-2015-0411 | Rio Vista, CA | Drawbridges (Part 117) | 5/10/2015
USCG-2015-0182 | Fort Lauderdale, FL | Safety Zones (Parts 147 and 165) | 5/10/2015
USCG-2015-0339 | San Diego, CA | Safety Zones (Parts 147 and 165) | 5/11/2015
USCG-2015-0395 | San Pedro, CA | Safety Zones (Parts 147 and 165) | 5/11/2015
USCG-2015-0178 | Narragansett Bay, RI | Safety Zones (Parts 147 and 165) | 5/12/2015
USCG-2015-0136 | Paducah, KY | Safety Zones (Parts 147 and 165) | 5/15/2015
USCG-2015-0136 | Paducah, KY | Safety Zones (Parts 147 and 165) | 5/15/2015
USCG-2015-0095 | Stuart, FL | Special Local Regulations (Part 100) | 5/15/2015
USCG-2015-0445 | Long Beach, CA | Safety Zones (Parts 147 and 165) | 5/15/2015
USCG-2015-0439 | Little Rock, AR | Safety Zones (Parts 147 and 165) | 5/15/2015
USCG-2015-0212 | Pittsburgh, PA | Safety Zones (Parts 147 and 165) | 5/16/2015
USCG-2015-0355 | Cocoa Beach, FL | Special Local Regulations (Part 100) | 5/17/2015
USCG-2015-0406 | Sasa Bay, Guam | Safety Zones (Parts 147 and 165) | 5/17/2015
USCG-2015-0413 | Santa Barbara, CA | Security Zones (Part 165) | 5/17/2015
USCG-2015-0430 | Philadelphia, PA | Security Zones (Part 165) | 5/18/2015
USCG-2015-0335 | New London, CT | Security Zones (Part 165) | 5/20/2015
USCG-2015-0346 | New London, CT | Security Zones (Part 165) | 5/20/2015
USCG-2015-0392 | Philadelphia, PA | Safety Zones (Parts 147 and 165) | 5/20/2015
USCG-2015-0416 | Merizo, Guam | Safety Zones (Parts 147 and 165) | 5/24/2015
USCG-2015-0458 | Washington, DC | Security Zones (Part 165) | 5/25/2015
USCG-2015-0181 | Charleston, SC | Special Local Regulations (Part 100) | 5/30/2015
USCG-2015-0466 | Sacramento, CA | Drawbridges (Part 117) | 5/31/2015
USCG-2015-0322 | Forked River, New Jersey | Special Local Regulations (Part 100) | 5/31/2015
USCG-2012-0087 | Puget Sound | Security Zones (Part 165) | 6/1/2015
USCG-2015-0385 | Portsmouth, NH | Regulated Navigation Areas (Part 165) | 6/1/2015
USCG-2015-0481 | Captain of the Port New York Zone | Safety Zones (Parts 147 and 165) | 6/4/2015
USCG-2015-0476 | Wilmette, IL | Safety Zones (Parts 147 and 165) | 6/6/2015
USCG-2015-0383 | Erie, PA | Safety Zones (Parts 147 and 165) | 6/6/2015
USCG-2015-0166 | Jacksonville, FL | Special Local Regulations (Part 100) | 6/6/2015
USCG-2015-0513 | Bellaire, OH | Safety Zones (Parts 147 and 165) | 6/6/2015
USCG-2015-0485 | Deerfield Beach, FL | Safety Zones (Parts 147 and 165) | 6/7/2015
USCG-2015-0461 | Chicago, IL | Safety Zones (Parts 147 and 165) | 6/9/2015
USCG-2015-0555 | Toledo, OH | Special Local Regulations (Part 100) | 6/13/2015
USCG-2015-0226 | Virginia Beach, VA | Safety Zones (Parts 147 and 165) | 6/20/2015
USCG-2015-0480 | Tampa, FL | Security Zones (Part 165) | 6/20/2015
USCG-2015-0539 | Winona, MN | Special Local Regulations (Part 100) | 6/20/2015
USCG-2015-0281 | Cincinnati, OH | Special Local Regulations (Part 100) | 6/20/2015
USCG-2014-0465 | Adjacent Waters, Guam | Safety Zones (Parts 147 and 165) | 6/22/2015
USCG-2015-0369 | Philadelphia, PA | Safety Zones (Parts 147 and 165) | 6/25/2015
USCG-2015-0368 | Philadelphia, PA | Safety Zones (Parts 147 and 165) | 6/27/2015

Dated: June 6, 2019.
M.W. Mumbach,
Acting Chief, Office of Regulations and Administrative Law, U.S. Coast Guard.

[FR Doc. 2019-12259 Filed 6-10-19; 8:45 am]

BILLING CODE P